FEDERAL COMMUNICATIONS COMMISSION

Notice of Public Information Collection(s) Being Reviewed by the Federal Communications Commission, for Extension Under Delegated Authority

June 6, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 13, 2007. If you anticipate that you will be submitting comments, but find it difficult to do so within the period of time allowed by this notice, you should advise the contact listed below as soon as possible.

ADDRESSES: You may submit your all Paperwork Reduction Act (PRA) comments by e-mail or U.S. postal mail. To submit your comments by e-mail send them to PRA@fcc.gov. To submit your comments by U.S. mail, mark them to the attention of Cathy Williams, Federal Communications Commission, Room 1-C823, 445 12th Street, SW., Washington, DC 20554, Cathy.Williams@fcc.gov and to Jasmeet Seehra, Office of Management and Budget, Room 10236 NEOB, 725 17th Street, NW., Washington, DC 20503 or via the Internet to Jasmeet_K._Seehra@omb.eop.gov or via fax at (202) 395-5167.

FOR FURTHER INFORMATION CONTACT: For additional information about the information collection(s) send an e-mail to PRA@fcc.gov or contact Cathy Williams at (202) 418-2918.

SUPPLEMENTARY INFORMATION:

OMB Control Number: 3060-0594.

Title: Cost of Service Filing for Regulated Cable Services.

Form Number: FCC Form 1220.

Type of Review: Extension of a currently approved collection.

Respondents: Business or other for-profit entities; State, Local, or Tribal Government.

Number of Respondents: 20.

Estimated Hours per Response: 4-80 hours.

Frequency of Response: On occasion reporting requirement.

Total Annual Burden: 1,220 hours.

Total Annual Costs: $60,000.

Nature of Response: Required to obtain or retain benefits.

Confidentiality: No need for confidentiality required.

Privacy Impact Assessment: No impact(s).

Needs and Uses: Cable operators file FCC Form 1220 with their Local Franchising Authorities to demonstrate the costs of providing cable service in order to justify rates above levels determined under the Commission's benchmark methodology. The Commission uses Form 1220 to determine whether cable rates for basic service, cable programming service, and associated equipment are reasonable under the Commission's rules.

OMB Control Number: 3060-0601.

Title: Setting Maximum Initiated Permitted Rates for Regulated Cable Services.

Form Number: FCC Form 1200.

Type of Review: Extension of a currently approved collection.

Respondents: Business or other for-profit entities; State, Local, or Tribal Government.

Number of Respondents: 100.

Estimated Hours per Response: 2-10 hours.

Frequency of Response: One time reporting requirement; Annual reporting requirement.

Total Annual Burden: 800 hours.

Total Annual Costs: $37,500.

Nature of Response: Required to obtain or retain benefits.

Confidentiality: No need for confidentiality required.

Privacy Impact Assessment: No impact(s).

Needs and Uses: Cable operators and local franchise authorities file FCC Form 1200 to justify the reasonableness of rates in effect on or after May 15, 1994. The FCC uses the data to evaluate cable rates the first time they are reviewed on or after May 15, 1994, so that maximum permitted rates for regulated cable service can be determined.

OMB Control Number: 3060-1069.

Title: Rules and Policies Concerning Attribution of Joint Sales Agreements in Local Television Markets, NPRM, MB Docket No. 04-256, FCC 04-173.

Form Number: Not applicable.

Type of Review: Extension of a currently approved collection.

Respondents: Business or other for-profit entities.

Number of Respondents: 1,360.

Estimated Hour per Response: 1 hour.

Frequency of Response: On occasion reporting requirement.

Total Annual Burden: 1,360 hours.

Total Annual Cost: None.

Nature of Response: Required to obtain or retain benefits.

Confidentiality: No need for confidentiality required.

Privacy Impact Assessment: No impact(s).

Needs and Uses: On July 13, 2004, the Commission adopted a Notice of Proposed Rule Making (NPRM), Attribution of Joint Sales Agreements in Local Television Markets, in MB Docket No. 04-256, FCC 04-173, which proposed to consider whether to amend its attribution rules to attribute certain joint sales agreements (JSAs) between broadcast TV stations located in the same local market. The Commission has not taken any action on this proposal since 2004.

Federal Communications Commission.
Marlene H. Dortch,
Secretary.

[FR Doc. E7-11407 Filed 6-12-07; 8:45 am]

BILLING CODE 6712-10-P